DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) approve the proposed information collection project: “Assessing the Feasibility of Disseminating EHC Products through Educational Activities.” In accordance with the Paperwork Reduction Act, 44 U.S.C. 3501-3521, AHRQ invites the public to comment on this proposed information collection.

This proposed information collection was previously published in the Federal Register on November 23rd, 2011 and allowed 60 days for public comment. No substantive comments were received. The purpose of this notice is to allow an additional 30 days for public comment.

DATES: Comments on this notice must be received by March 5, 2012.

ADDRESSES: Written comments should be submitted to: AHRQ's OMB Desk Officer by fax at (202) 395-6974 (attention: AHRQ's desk officer) or by email at OIRA_submission@omb.eop.gov (attention: AHRQ's desk officer).

Copies of the proposed collection plans, data collection instruments, and specific details on the estimated burden can be obtained from the AHRQ Reports Clearance Officer.

FOR FURTHER INFORMATION CONTACT: Doris Lefkowitz, AHRQ Reports Clearance Officer, (301) 427-1477, or by email at doris.lefkowitz@AHRQ.hhs.gov.

SUPPLEMENTARY INFORMATION:

Proposed Project

Assessing the Feasibility of Disseminating EHC Products through Educational Activities

The Agency for Healthcare Research and Quality (AHRQ) requests that the Office of Management and Budget (OMB) approve under the Paperwork Reduction Act of 1995 this collection of information from users of products provided by the John M. Eisenberg Clinical Decisions and Communications Science Center (Eisenberg Center). Information collected consists of feedback from managers, instructors, and learners about these health care guides and other products presented as part of Continuing Medical Education activities.

AHRQ is the lead agency charged with supporting research designed to improve the quality of healthcare, reduce its cost, improve patient safety, decrease medical errors, and broaden access to essential services. AHRQ's Eisenberg Center's mission is improving communication of research findings to a variety of audiences (“customers”), including consumers, clinicians, and health care policy makers. The Eisenberg Center compiles research results into useful formats for customer stakeholders. The Eisenberg Center also conducts investigations into effective communication of research findings in order to improve the usability and rapid incorporation of findings into medical practice. The Eisenberg Center is one of three components of AHRQ's Effective Health Care (EHC) Program.

A primary goal of the Eisenberg Center is to translate results from systematic reviews of evidence comparing the effectiveness of two or more clinical care processes into information that can be used to support clinical decision-making. The major products of such efforts are brief guides designed for clinicians, patients, and policy makers that summarize the evidence concerning the effectiveness of various diagnostic and treatment processes. All of the guides and other products are designed to help decision makers, including clinicians and health care consumers, use research evidence to maximize the benefits of health care, minimize harm, and optimize the use of health care resources.

The collections proposed under this project include activities to assess the feasibility of disseminating EHC products through Continuing Medical Education (CME) activities, specifically those planned and implemented by member organizations of the Society of Academic Continuing Medical Education (SACME). SACME is an organization with members in both the U.S. and Canada formed in 1976 to “promote the research, scholarship, evaluation and development of CME and Continuing Professional Development (CPD) that helps to enhance the performance of physicians and other healthcare professionals practicing in the United States, Canada, and elsewhere for purposes of improving individual and population health.”

For this project, the Eisenberg Center will work with six organizations selected from applications submitted by SACME members that had been invited to compete for funding. The Eisenberg Center selected sites based on the size of each organization's CME audience, the project's ability to inform the CME community, its degree of generalizability and replicability, and overall quality. Organizations selected for participation in the feasibility study have committed to specific activities designed to disseminate EHC Program summary guides to physicians, other clinicians, instructional faculty, and clinical researchers who participate in CME activities. Another partner in these efforts is the Association of American Medical Colleges (AAMC), which is assisting the project through access to MedEdPORTAL and CME4docs, two recently launched initiatives that are designed to encourage use of high quality CME resources by medical school faculty and others involved in development and delivery of CME.

This research has the following goals:

(1) Identify critical factors that enhance or impede integration of EHC products into CME activities;

(2) Assess strategies to remove, overcome, or work around barriers to integration of EHC products into CME programming with selected audiences;

(3) Confirm approaches that can be used in whole or in part to create and deliver effective CME instruction about EHC products (e.g., clinician guides, consumer guides, faculty slide sets); and,

(4) Review early educational program outcomes associated with integration of EHC products into CME activities.

This study is being conducted by AHRQ through its contractor, the Eisenberg Center—Baylor College of Medicine (EC-BMC), pursuant to AHRQ's statutory authority to conduct and support research, and disseminate information, on healthcare and on systems for the delivery of such care, including activities with respect to both the quality, effectiveness, efficiency, appropriateness and value of healthcare services and clinical practice. 42 U.S.C. 299a(a)(1) and (4).

Method of Collection

To achieve the goals of this project the following activities and data collections will be implemented:

(1) Interviews with CME Project Directors—Semi-structured interviews will be conducted with the representative of each participating CME institution leading the development and implementation of the educational activities associated with the study. The director is typically, but not always, an expert physician. The interviews will be designed to: (a) Assess perceived feasibility and obtain feedback on strategies used to integrate EHC products into their planned CME activities involving varied content, instructional methods, and delivery formats; and, (b) characterize barriers and facilitators to the integration of EHC products into specific CME activities.

(2) Focus Group with CME Project Directors—A focus group will also be convened with the CME Project Directors described above near the midpoint of the project to: (a) Obtain feedback on the perceived usefulness, currency and quality of the EHC products; and, (b) explore the overall implications concerning CME activities as an avenue for disseminating EHC products.

(3) Interviews with Faculty Members—Semi-structured interviews will be conducted with clinicians who served as faculty in the CME activities associated with this study to: (a) Obtain perspectives on the quality, relevance, and utility of the resources that they accessed and integrated into their CME activities; (b) identify obstacles to the integration of EHC products into specific CME activities and contexts; and, (c) identify additional tools or resources that could facilitate the integration of EHC content into CME activities.

(4) Initial Survey Assessments of CME Participants—Learner questionnaires will be administered to each clinician participating in a CME activity to determine the degree to which the learning activities with integrated EHC products affected educational outcomes such as levels of knowledge about specific clinical treatment issues and incorporation of new knowledge into clinical practice. The initial questionnaire will be distributed by paper or electronically at the immediate conclusion of participation in the CME activity.

(5) Follow-up Survey Assessments of CME Participants—A second questionnaire will be distributed electronically two months after each activity to each clinician learner and will be accessible through the Eisenberg Center Web site. An email message will be sent to invite participation and will include a link to the questionnaire. Gathering such data will provide a view of current awareness of EHC products and learners' intentions to use the products in practice as well as perceptions of barriers to implementation.

The collected data will be used to determine the feasibility of: (a) Including EHC products (i.e., clinician guides, consumer guides, faculty slide sets) in CME activities that employ varied delivery modalities; and, (b) initiating additional studies to identify factors that promote effective integration of evidence-based content into educational activities. The data gathered from physicians and other clinical professionals who are participating in CME activities will foster understanding of the current state of awareness of and willingness to learn about results from comparative effectiveness research studies. The planned assessment approaches will promote better understanding of strategies that are most appropriate for use in incorporating comparativeness effectiveness research findings into CME activities, as well as understanding which strategies produce desired educational outcomes and are most acceptable to targeted learners in this case clinical professionals. The information generated will be used in designing learning programs for delivery through the Eisenberg Center for Clinical Decisions and Communications Science and will be shared with others in the CME community through journal articles, Web-based publications, and scientific presentations.

Estimated Annual Respondent Burden

Exhibit 1 shows the estimated annualized burden for the respondents' time to participate in this research. Interviews will be conducted with each CME Project Director and will last about 30 minutes, while the focus group will last about 90 minutes. A maximum of 30 interviews will be conducted with CME faculty members. These are estimated to take 30 minutes to complete. The initial survey assessment of CME participant learners will take about 5 minutes to complete per questionnaire, as will the follow-up survey assessment. These questionnaires will be administered to the approximately 4,500 clinicians who will complete one of the study's CME activities. Each learner will be asked to complete both the initial and follow-up surveys.

Exhibit 1—Estimated Annualized Burden Hours
Type of data collection | Number of respondents | Number of responses per respondent | Hours per response | Total burden hours
Interviews with CME Project Directors | 10 | 1 | 30/60 | 5
Focus Group with CME Project Directors | 10 | 1 | 1.5 | 15
Interviews with Faculty Members | 30 | 1 | 30/60 | 15
Initial Survey Assessment of CME Participants | 4,500 | 1 | 5/60 | 375
Follow up Survey Assessment of CME Participants | 4,500 | 1 | 5/60 | 375
Total | 9,050 | na | na | 785

Exhibit 2 shows the estimated annualized cost burden associated with the respondent's time to participate in this research. The total annual cost burden is estimated to be $65,233.

Exhibit 2—Estimated Annualized Cost Burden
Type of data collection | Number of respondents | Total burden hours | Average hourly wage rate | Total cost burden
Interviews with CME Project Directors | 10 | 5 | $64.31+ | $322
Focus Group with CME Project Directors | 10 | 15 | 64.31+ | 965
Interviews with Faculty Members | 30 | 15 | 83.59++ | 1,254
Initial Survey Assessment of CME Participants | 4,500 | 375 | 83.59++ | 31,346
Follow up Survey Assessment of CME Participants | 4,500 | 375 | 83.59++ | 31,346
Total | 9,050 | 785 | na | 65,233
+Based upon the mean wages for clinicians (29-1062 family and general practitioners), National Compensation Survey: Occupational wages in the United States May 2010, U.S. Department of Labor, Bureau of Labor Statistics. http://www.bls.gov/oes/current/oes_nat.htm.
++Based upon the mean wages for clinicians (29-1062 family and general practitioners) and medical and health services managers (11-9111), National Compensation Survey: Occupational wages in the United States May 2010, U.S. Department of Labor, Bureau of Labor Statistics. http://www.bls.gov/oes/current/oes_nat.htm.

Estimated Annual Cost to the Government

Exhibit 3 shows the total and annualized cost by the major cost components. The maximum cost to the Federal Government is estimated to be $166,417 annually.

Exhibit 3—Estimated Total and Annualized Cost
Cost component | Total cost | Annualized cost
Project Development | $110,846 | $55,423
Data Collection Activities | 47,563 | 23,781
Data Processing and Analysis | 38,250 | 19,125
Project Management | 73,675 | 36,838
Overhead | 62,500 | 31,250
Total | 332,834 | 166,417

Request for Comments

In accordance with the Paperwork Reduction Act, comments on AHRQ's information collection are requested with regard to any of the following: (a) Whether the proposed collection of information is necessary for the proper performance of AHRQ healthcare research and healthcare information dissemination functions, including whether the information will have practical utility; (b) the accuracy of AHRQ's estimate of burden (including hours and costs) of the proposed collection(s) of information; (c) ways to enhance the quality, utility, and clarity of the information to be collected; and, (d) ways to minimize the burden of the collection of information upon the respondents, including the use of automated collection techniques or other forms of information technology.

Comments submitted in response to this notice will be summarized and included in the Agency's subsequent request for OMB approval of the proposed information collection. All comments will become a matter of public record.

Dated: January 20, 2012.
Carolyn M. Clancy,
Director.

[FR Doc. 2012-2130 Filed 2-1-12; 8:45 am]

BILLING CODE 4160-90-P